COMMISSION ON CIVIL RIGHTS

Agenda and Notice of Public Meeting of the Hawaii Advisory Committee

Notice is hereby given, pursuant to the provisions of the rules and regulations of the U.S. Commission on Civil Rights (Commission) and the Federal Advisory Committee Act that a briefing before the Hawaii Advisory Committee (Committee) will convene on Monday, September 20, 2010. The meeting will convene at 10:30 a.m. and adjourn at approximately 4 p.m. The meeting will be held at the Liliha Public Library, 1515 Liliha Street, Honolulu, HI. The purpose of the briefing is for the Committee to learn about possible disparities in the administration of justice.

Members of the public are entitled to submit written comments; the comments must be received in the regional office by October 30, 2010. Written comments may be mailed to the Western Regional Office, U.S. Commission on Civil Rights, 300 N. Los Angeles St., Suite 2010, Los Angeles, CA, 90012. They may also be faxed to the Commission at (213) 894-0507 or e-mailed to the Commission at atrevino@usccr.gov. Persons who desire additional information may contact the Western Regional Office at (213) 894-3437.

Hearing-impaired persons who will attend the meeting and require the services of a sign language interpreter should contact the Western Regional Office at least ten (10) working days before the scheduled date of the meeting.

Records generated from this meeting may be inspected and reproduced at the Western Regional Office, as they become available, both before and after the meeting. Persons interested in the work of this Committee are directed to the Commission's Web site, http://www.usccr.gov, or may contact the Western Regional Office at the above e-mail or street address.

The meeting will be conducted pursuant to the rules and regulations of the Commission and FACA.

Dated in Washington, DC, September 2, 2010.
Peter Minarik,
Acting Chief, Regional Programs Coordination Unit.

[FR Doc. 2010-22283 Filed 9-7-10; 8:45 am]

BILLING CODE 6335-01-P